DEPARTMENT OF HOMELAND SECURITY

Coast Guard

33 CFR Part 117

[Docket No. USCG-2017-0161]

Drawbridge Operation Regulation; Canaveral Barge Canal, Canaveral, FL

AGENCY: Coast Guard, DHS.

ACTION: Notice of deviation from drawbridge regulation with request for comments; modification.

SUMMARY: The Coast Guard has modified a temporary deviation from the operating schedule that governs the SR 401 Drawbridge, mile 5.5 at Port Canaveral, Florida. This modified deviation is necessary to reduce vehicular traffic congestion and to ensure the safety of the roadways while passengers are transiting to and from Cruise Terminal 10, which is used by Norwegian Cruise Line at Port Canaveral. Since the arrival of the cruise ship Norwegian Epic to the Port of Canaveral, massive traffic back-ups have been caused by the drawbridge openings. This modified deviation allows the bridge to not open to navigation during prime cruise ship passenger loading and unloading times on Saturdays and Sundays.

DATES: This modified deviation is effective without actual notice from May 11, 2017 until October 23, 2017. Submit comments by June 26, 2017.

ADDRESSES: The docket for this deviation, [USCG-2017-0161] is available at http://www.regulations.gov. Type the docket number in the “SEARCH” box and click “SEARCH”. Click on Open Docket Folder on the line associated with this deviation.

FOR FURTHER INFORMATION CONTACT: If you have questions on this temporary deviation, call or email Mr. Michael Lieberum with the Seventh Coast Guard District Bridge Office; telephone 305-415-6744, email Michael.B.Lieberum@uscg.mil.

SUPPLEMENTARY INFORMATION: On April 25, 2017 the Coast Guard published a temporary deviation entitled “Drawbridge Operation Regulation; Canaveral Barge Canal, Canaveral, FL in the Federal Register (82 FR 18989). Under that temporary deviation, the bridge would remain in the closed-to-navigation position from 11 a.m. to 2 p.m. on Saturdays. The Canaveral Port Authority has requested that this deviation also include Sundays. The current operating regulation is under 33 CFR 117.273. The bridge logs from November 2016 indicate that, at most, approximately nine vessels may be affected by establishing this three hour bridge closure on Saturdays and Sundays. The majority of the opening requests were either at the beginning or end of this closure period; therefore, by adjusting their transits slightly there should be a negligible overall effect. This modified deviation is effective from May 11, 2017 until October 23, 2017. The Coast Guard will continue to evaluate the impact to mariners navigating this area during the closure periods and has requested comments be submitted during the first 60 days of this modified deviation.

Vessels able to pass through the bridge in the closed position may do so at any time. The bridge will be able to open for emergencies and there is no immediate alternate route for vessels to pass through the bridge in closed positions. The Coast Guard will also inform the users of the waterways through Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this notice of deviation, and all public comments, are in our online docket at http://www.regulations.gov and can be viewed by following that Web site's instructions. Additionally, if you go to the online docket and sign up for email alerts, you will be notified when comments are posted or a final rule is published.

Dated: May 8, 2017.
Barry Dragon,
Director, Bridge Branch, Seventh Coast Guard District.

[FR Doc. 2017-09598 Filed 5-10-17; 8:45 am]

BILLING CODE 9110-04-P